DEPARTMENT OF THE INTERIOR

National Park Service

[NPS-NERO-CEBE-13504; PPNECEBE00, PPMPSAS1Z.Y00000]

Notice of Public Meetings for Cedar Creek and Belle Grove National Historical Park Advisory Commission

AGENCY: National Park Service, Interior.

ACTION: Notice of public meetings.

SUMMARY: Notice is hereby given in accordance with the Federal Advisory Committee Act of 1972, the U.S. Department of the Interior, National Park Service, Cedar Creek and Belle Grove National Historical Park Advisory Commission will hold quarterly meetings to discuss park projects and the implementation of the Park's general management plan.

DATE: September 19, 2013.

Location: Strasburg Town Hall Council Chambers, 174 East King Street, Strasburg, VA 22657.

Date: December 19, 2013.

Location: Middletown Town Council Chambers, 7875 Church Street, Middletown, VA 22645.

Date: March 20, 2014.

Location: Warren County Government Center, 220 North Commerce Avenue, Front Royal, VA 22630.

Date: June 19, 2014.

Location: Strasburg Town Hall Council Chambers, 174 East King Street, Strasburg, VA 22657.

Agenda: Committee meetings will consist of the following:

1. General Introductions

2. Review and approval of Commission Meeting Notes

3. Reports and Discussions

4. Old Business

5. New Business

6. Closing Remarks

All meetings are open to the public and begin at 8:30 a.m.

FOR FURTHER INFORMATION CONTACT: Further information concerning the meetings may be obtained from Amy Bracewell, Site Manager, Cedar Creek and Belle Grove National Historical Park, P.O. Box 700, Middletown, Virginia 22645, telephone (540) 868-9176.

SUPPLEMENTARY INFORMATION: All meetings are open to the public. Topics to be discussed include: visitor services and interpretation—including directional and interpretive signage and visitor facilities, land protection planning, historic preservation, and natural resource protection.

The Park Advisory Commission was designated by Congress to provide advice to the Secretary of the Interior on the preparation and implementation of the park's general management plan and to advise on land protection. Individuals who are interested in the Park, the implementation of the plan, or the business of the Commission are encouraged to attend the meetings. Interested members of the public may present, either orally or through written comments, information for the committee to consider during the public meeting. Attendees and those wishing to provide comment are strongly encouraged to preregister through the contact information provided. Scheduling of public comments during the Commission meeting will be determined by the chairperson of the Commission.

Before including your address, phone number, email address, or other personal identifying information in your comment, you should be aware that your entire comment—including your personal identifying information—may be made publicly available at any time. While you can ask us in your comment to withhold your personal identifying information from public view, we cannot guarantee that we will be able to do so.

Dated: July 23, 2013.
Alma Ripps,
Chief, Office of Policy.

[FR Doc. 2013-18369 Filed 7-30-13; 8:45 am]

BILLING CODE 4310-AR-P